DEPARTMENT OF LABOR

Office of the Secretary

Senior Executive Service; Appointment of a Member to the Performance Review Board

Title 5 U.S.C. 4314(c)(4) provides that Notice of the appointment of an individual to serve as a member of the Performance Review Board of the Senior Executive Service shall be published in the Federal Register.

The following individuals are hereby appointed to a three-year term on the Department's Performance Review Board: Ray McKinney, Corlis Sellers.

FOR FURTHER INFORMATION CONTACT: Mr. David LeDoux, Director, Office of Executive Resources and Personnel Security, Room C5526, U.S. Department of Labor, Frances Perkins Building, 200 Constitution Avenue, NW., Washington, DC 20210, telephone: (202) 693-7605.

Signed at Washington, DC, this 16th day of September, 2002.
Elaine L. Chao,
Secretary of Labor.

[FR Doc. 02-24591 Filed 9-26-02; 8:45 am]

BILLING CODE 4510-23-M